DEPARTMENT OF THE INTERIOR

Bureau of Land Management

[CA-340-1430-ES; CACA-43408]

Notice of Realty Action; Recreation and Public Purposes (R&PP) Act Classification; California

AGENCY: Bureau of Land Management, Interior.

ACTION: Notice of Realty Action.

SUMMARY: The following public lands in Lake County, California have been examined and found suitable for classification for lease or conveyance to the Lake County Flood Control and Water Conservation District under the provisions of the Recreation and Public Purposes Act, as amended (43 U.S.C. 869 et seq.). The Lake County Flood Control and Water Conservation District proposes to construct and maintain a multipurpose trail system on the public lands that would tie into the trail system on their 2,550 acre of adjacent land. The trails would be constructed for non-motorized use, including hiking, equestrian and all-terrain bicycles.

Lease and/or conveyance is consistent with current BLM land use planning and would be in the public interest. The lands are located at:

Mount Diablo Meridian, California

T. 13 N., R 10 W.

Section 34: NE, S2NW, N2SE.

Section 35: SWNE, W2NW, SENW, SW, W2SE.

The area described contains 720 acres.

The lease/patent, when issued, will be subject to the following terms, conditions, and reservations:

1. Provision of the Recreation and Public Purpose Act and to all applicable regulations of the Secretary of the Interior.

2. A right-of-way for ditches and canals constructed by the authority of the United States.

3. All minerals shall be reserved to the United States, together with the right to prospect for, mine and remove the minerals.

4. A right-of-way for an access road granted to Bob Neilsen under CACA-31323.

5. A right-of-way for an access road reserved by the Bureau of Land Management on the Adobe Creek Road under CAS-076875.

Detailed information concerning this action is available for review at the office of the Bureau of Land Management, Ukiah Field Office, 2550 North State Street, Ukiah, California. Upon publication of this notice in the Federal Register, the lands will be segregated from all other forms of appropriation under the public land use laws, including the general mining laws, except for lease and/or conveyance under the Recreation and Public Purposes Act and leasing under the mineral leasing laws. The segregation for exchange under CACA-30111FD will be revoked. For a period until November 17, 2003, interested persons may submit comments regarding the proposed lease/conveyance or classification of the lands to the Field Manager, Ukiah Field Office, 2550 North State Street, Ukiah, CA 95482.

Classification Comments: Interested parties may submit comments involving the suitability of the land for the development of hiking, equestrian and all-terrain bicycle trails. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for hiking, equestrian and all-terrain bicycles trails. Any adverse comments will be reviewed by the State Director. In the absence of any adverse comments, the classification will become effective.

Dated: January 17, 2003.
Howard K. Stark,
Chief, Branch of Lands Management.

Editorial Note: This document was received in the Office of the Federal Register on September 29, 2003.

[FR Doc. 03-25065 Filed 10-2-03; 8:45 am]

BILLING CODE 4310-40-P